FEDERAL COMMUNICATIONS COMMISSION

47 CFR Part 73

[DA 01-2316; MM Docket No. 00-18; RM-9790]

Radio Broadcasting Services; Barnwell, SC, Pembroke, Douglas and Willacoochee, GA

AGENCY: Federal Communications Commission.

ACTION: Final rule.

SUMMARY: At the request of the Bullie Broadcasting Corporation, this document substitutes Channel 257C1 for Channel 256C3 at Barnwell, South Carolina, reallots Channel 257C1 to Pembroke, Georgia, and modifies the license of Station WBAW to specify operation on Channel 257C1 at Pembroke. To accommodate this reallotment, this document reallots Channel 258C1 from Douglas, Georgia, to Willacooche, Georgia, and modifies the Station WDMG license to specify Willacoochee as its community of license. This document also allots Channel 256C3 to Barnwell, South Carolina. See 65 FR 7815, published February 16, 2000. This document dismisses a Counterproposal filed by Multi-Service Corp. proposing a channel substitution at Statesboro, Georgia, and new allotments at Pulaski and Twin City, Georgia. The reference coordinates for the Channel 257C1 allotment at Pembroke, Georgia, are 32-11-137 and 81-48-04. The reference Coordinates for the Channel 258C1 allotment at Willacoochee, Georgia, are 31-20-27 and 83-24-30. The reference coordinates for the Channel 256C3 allotment at Barnwell, South Carolina, are 33-24-29 and 81-16-43. With this action, the proceeding is terminated.

DATES: Effective November 20, 2001.

FOR FURTHER INFORMATION CONTACT: Robert Hayne, Mass Media Bureau (202) 418-2177.

SUPPLEMENTARY INFORMATION: This is a synopsis of the Commission's Report and Order in MM Docket No. 00-18, adopted October 3, 2001, and released October 5, 2001. The full text of this decision is available for inspection and copying during normal business hours in the FCC's Reference Information Center at Portals II, CY-A257, 445 12th Street, SW, Washington, D.C. The complete text of this decision may also be purchased from the Commission's copy contractor, Qualex International, Portals II, 445 12th Street, SW, Room CY-B402, Washington, D.C. 20554, telephone 202-863-2893, facsimile 202-863-2898, or via e-mail qualexint@aol.com

List of Subjects in 47 CFR Part 73

Radio Broadcasting.

Part 73 of title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Georgia, is amended by adding Pembroke, Channel 257C1.

3. Section 73.202(b), the Table of FM Allotments under Georgia, is amended by removing Channel 258C1 at Douglas, and adding Willacoochee, Channel 258C1.

4. Section 73.202(b), the Table of FM Allotments under South Carolina, is amended by removing Channel 256C3 and adding Channel 257C1 at Barnwell.

Federal Communications Commission.
John A. Karousos,
Chief, Allocations Branch, Policy and Rules Division, Mass Media Bureau.

[FR Doc. 01-27614 Filed 11-1-01; 8:45 am]

BILLING CODE 6712-01-P